DEPARTMENT OF THE INTERIOR

National Park Service

Decision Record and Finding of No Significant Impact (FONSI) for the Improvements to Trails and Overlooks at Great Falls Park, VA

AGENCY: National Park Service, Interior.

ACTION: Availability of the Decision Record and FONSI for the proposal to improve the trails and overlooks at Great Falls Park, Virginia.

SUMMARY: Pursuant to Council on Environmental Quality regulations and National Park Service policy, the National Park Service announces the availability of the Decision Record and FONSI for the improvement to the trails and overlooks at Great Falls Park, a unit of the George Washington Memorial Parkway (GWMP). The Decision Record and FONSI identifies Alternative C1 as the preferred and environmentally preferred alternative in the “Improvements to Trails and Overlooks at Great Falls Park, Virginia” Environmental Assessment (EA). Under this alternative the existing Overlook 1, Overlook 2, and the chain-link fence at the Jetty Overlook would be removed and new replacement structures built in the same locations. A loop trail/boardwalk would be constructed through the area between the visitor center and the river. Two additional overlooks would be built at the Shade Tree/Jetty area. This alternative, however, does not provide for the stabilization and restoration of the area between Overlooks 1 and 2 and the Fisherman's Eddy access, pending future investigations to determine whether such improvements are feasible and sustainable. Concern was raised during the EA process about impacts of the preferred alternative on a state listed (S1) plant species. The park determined that potential impacts to these rare plants could be greatly reduced if the proposed configuration of Overlook 1 were shifted to the downriver side of the existing overlook rather than the proposed upriver side.

DATES: The EA, upon which the FONSI was made, was available for public comment from November 5 to December 5, 2001. A total of six comments were received during the 30-day public comment period from park user groups and neighboring government agencies. All supported the park in the preferred alternative and most recommended that further study be done to improve the Fisherman's Eddy Access.

ADDRESSES: The Decision Record and FONSI will be available for public inspection Monday through Friday, 8 a.m. through 4 p.m. at the GWMP Headquarters, Turkey Run Park, McLean, VA, and is available on the park's Web site at http://www.nps.gov/gwmp.

SUPPLEMENTARY INFORMATION: The Decision Record and FONSI completes the Environmental Assessment process.

FOR FURTHER INFORMATION CONTACT: Natural Resource Specialist, Heather Germaine (703) 289-2540.

Dottie Marshall,
Acting Superintendent, George Washington Memorial Parkway.

[FR Doc. 03-16801 Filed 7-2-03; 8:45 am]

BILLING CODE 4310-DL-P